NUCLEAR REGULATORY COMMISSION

10 CFR Part 50

[Docket No. PRM-50-57]

North Carolina Utilities Commission Public Staff; Withdrawal of Petition for Rulemaking

AGENCY: Nuclear Regulatory Commission.

ACTION: Petition for rulemaking; withdrawal.

SUMMARY: The Nuclear Regulatory Commission (NRC) is withdrawing, at the petitioner's request, a petition for rulemaking (PRM-50-57) (57 FR 2059; January 17, 1992) filed by the North Carolina Utilities Commission Public Staff (petitioner). The petitioner requested that the Commission amend its regulations to substantially reduce or eliminate insurance requirements for nuclear power reactors when all the nuclear reactors on a reactor station site have been shut down or are awaiting decommissioning, and all nuclear fuel has been removed from the reactor site.

ADDRESSES: A copy of the petitioner's email submittal, dated October 29, 2007, requesting withdrawal of the petition is available for public inspection, or copying for a fee, at the NRC's Public Document Room, One White Flint North, 11555 Rockville Pike, Room O1F21, Rockville, Maryland.

Single copies of the petitioner's email submission may be obtained free of charge by writing to Michael T. Lesar, Chief, Rules, Directives and Editing Branch, Division of Administrative Services, Office of Administration, U.S. Nuclear Regulatory Commission, Washington, DC 20555.

Documents created or received at the NRC after November 1, 1999, are also available electronically at the NRC's Public Electronic Reading Room on the Internet at http://www.nrc.gov/NRC/ADAMS/index.html. For the petitioner's e-mail the accession number is ML080320147. From this site, the public can gain entry into the NRC's Agencywide Document Access and Management System (ADAMS) that provides text and image files of NRC's public documents. For more information, contact the NRC Public Document Room (PDR) Reference staff at 1-800-397-4209, (301) 415-4737, or by e-mail to pdr@nrc.gov.

FOR FURTHER INFORMATION CONTACT: Michael T. Lesar, Chief, Rules, Directives and Editing Branch, Division of Administrative Services, Office of Administration, U.S. Nuclear Regulatory Commission, Washington, DC 20555. Telephone: 301-415-7163, or Toll Free: 1-800-368-5642, or by e-mail at mtl@nrc.gov.

Dated at Rockville, Maryland, this 5th day of February 2008.
For the Nuclear Regulatory Commission.
Annette L. Vietti-Cook,
Secretary of the Commission.

[FR Doc. E8-2481 Filed 2-8-08; 8:45 am]

BILLING CODE 7590-01-P